DEPARTMENT OF TRANSPORTATION

Federal Aviation Administration

14 CFR Part 39

[Docket No. FAA-2008-0735; Directorate Identifier 2008-NM-085-AD; Amendment 39-15803; AD 2009-03-02]

RIN 2120-AA64

Airworthiness Directives; McDonnell Douglas Model DC-10-10, DC-10-10F, DC-10-15, DC-10-30, DC-10-30F (KC-10A and KDC-10), DC-10-40, DC-10-40F, MD-10-10F, MD-10-30F, MD-11, and MD-11F Airplanes

AGENCY: Federal Aviation Administration (FAA), Department of Transportation (DOT).

ACTION: Final rule.

SUMMARY: The FAA is superseding an existing airworthiness directive (AD), which applies to certain McDonnell Douglas transport category airplanes. That AD currently requires modification of the installation wiring for the electric motor-operated auxiliary hydraulic pumps in the right wheel well area of the main landing gear; repetitive inspections of the numbers 1 and 2 electric motors of the auxiliary hydraulic pumps for electrical resistance, continuity, mechanical rotation, and associated airplane wiring resistance/voltage; and corrective actions if necessary. This new AD also requires, for certain airplanes, modifying and rerouting, as applicable, certain components of the wiring of the electric motor for the auxiliary hydraulic pump located in the right wheel well. This AD results from reports of failure of the electric motor for the auxiliary hydraulic pump. We are issuing this AD to prevent failure of the electric motors of the hydraulic pump and associated wiring, which could result in fire at the auxiliary hydraulic pump and consequent damage to the adjacent electrical equipment and/or structure.

DATES: This AD becomes effective March 31, 2009.

The Director of the Federal Register approved the incorporation by reference of certain publications listed in the AD as of March 31, 2009.

On April 15, 2004 (69 FR 11504, March 11, 2004), the Director of the Federal Register approved the incorporation by reference of certain service information as listed in the AD.

ADDRESSES: For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Discussion

The FAA issued a notice of proposed rulemaking (NPRM) to amend 14 CFR part 39 to include an AD that supersedes AD 2004-05-20, amendment 39-13515 (69 FR 11504, March 11, 2004). The existing AD applies to certain McDonnell Douglas Model DC-10-10, DC-10-10F, DC-10-15, DC-10-30, DC-10-30F (KC-10A and KDC-10), DC-10-40, DC-10-40F, MD-10-10F, MD-10-30F, MD-11, and MD-11F airplanes. That NPRM was published in the Federal Register on July 28, 2008 (73 FR 43643). That NPRM proposed to continue to require modification of the installation wiring for the electric motor-operated auxiliary hydraulic pumps in the right wheel well area of the main landing gear; repetitive inspections of the numbers 1 and 2 electric motors of the auxiliary hydraulic pumps for electrical resistance, continuity, mechanical rotation, and associated airplane wiring resistance/voltage; and corrective actions if necessary. That NPRM also proposed to require, for certain airplanes, modifying and rerouting, as applicable, certain components of the wiring of the electric motor for the auxiliary hydraulic pump located in the right wheel well.

Comments

We provided the public the opportunity to participate in the development of this AD. We have considered the comments that have been received on the NPRM.

Request To Include Reference to Approved Alternative Methods of Compliance (AMOCs)

Boeing requests that we revise the NPRM to include a reference to service information previously approved as AMOCs to AD 2004-05-20. Boeing points out that paragraphs (f) and (g)(2) of the NPRM refer to the following service bulletins as the sources of service information for certain prior/concurrent actions: Boeing Alert Service Bulletin MD11-29A057, Revision 02, dated April 17, 2003; and Boeing Alert Service Bulletin MD11-29A059, Revision 2, dated August 1, 2003. Boeing states that the following service bulletins have been approved as AMOCs to AD 2004-05-20 as follows: Boeing Alert Service Bulletin MD11-29A057, Revision 3, dated October 15, 2005; and Boeing Alert Service Bulletin MD11-29A059, Revision 3, dated September 24, 2004, Revision 4, dated November 1, 2005, and Revision 5, dated June 27, 2006.

We agree that these service documents were previously approved as AMOCs for AD 2004-05-20. We have added a new paragraph (i)(3) to this AD to state that AMOCs approved previously in accordance with AD 2004-05-20 are approved as AMOCs for the requirements of paragraphs (g)(1) and (g)(2) of this AD.

Request To Clarify Differences Between Service Bulletins

The United States Air Force (USAF) requests that operators in compliance with Boeing Alert Service Bulletin DC10-29A144, Revision 2, dated August 1, 2003, not be required to accomplish the re-check specified in Boeing Alert Service Bulletin DC10-29A148, dated March 20, 2008. (Boeing Alert Service Bulletin DC10-29A148 is the appropriate source of service information for the new actions required by paragraph (h) of this AD; Boeing Alert Service Bulletin DC10-29A144, Revision 2, is the appropriate source of service information for the prior/concurrent actions specified in paragraph (f)(1) of this AD.) The USAF states that it has completed Boeing Alert Service Bulletin DC10-29A144, Revision 2, on its fleet of McDonnell Douglas Model DC-10-30F (KC-10A and KDC-10) airplanes.

We disagree with the request that operators in compliance with Boeing Alert Service Bulletin DC10-29A144, Revision 2, not be required to accomplish the re-check specified in Boeing Alert Service Bulletin DC10-29A148. (Boeing Alert Service Bulletin DC10-29A148, requires a re-check of the re-routing accomplished in accordance with Boeing Alert Service Bulletin DC10-29A144, Revision 2.) Boeing has notified us that it found problems with the actions specified in Boeing Alert Service Bulletin DC10-29A144, Revision 2. Specifically, Boeing found that bracket assemblies did not have adequate dimensions and tolerances as called out in the installation drawing for this service bulletin. Boeing Alert Service Bulletin DC10-29A148 supersedes Boeing Alert Service Bulletin DC10-29A144, Revision 2. The work instructions for Boeing Alert Service Bulletin DC10-29A148 specify using new installation dimensions and tolerances for the bracket assemblies. Boeing Alert Service Bulletin DC10-29A148 also provides instructions for modifying the installation wiring for airplanes that were not changed in accordance with Boeing Alert Service Bulletin DC10-29A144, Revision 2. We have not changed the AD in this regard.

Request To Apply AD Only to Certain Airplanes

KLM Royal Dutch Airlines (KLM) requests that the AD apply only to McDonnell Douglas Model DC-10-10, DC-10-10F, DC-10-15, DC-10-30, DC-10-30F (KC-10A and KDC-10), DC-10-40, and DC-10-40F airplanes, because the issue applies only to these airplanes. KLM states that this change would avoid confusion and redundant (administrative) AD actions for the entire fleet of Model MD-11 and MD-11F airplanes. KLM also points out that the new actions apply only to the DC-10 models. KLM requests that: (1) AD 2004-05-20 remain valid for all models to prescribe newer revisions of existing service information; and (2) a new AD be issued only for the DC-10 models to prescribe inspection criteria corrective actions in accordance with the new service bulletin (Boeing Alert Service Bulletin DC10-29A148).

We partially agree with KLM's request. We agree that no new work requirements have been added for Model MD-10-10F, MD-10-30F, MD-11, and MD-11F airplanes. We disagree with the request to issue a separate AD to cover only Model DC-10-10, DC-10-10F, DC-10-15, DC-10-30, DC-10-30F (KC-10A and KDC-10), DC-10-40, and DC-10-40F airplanes. In order to do so, we would have to supersede AD 2004-05-20 to remove the DC-10 models from the applicability; otherwise that AD would remain in effect for those airplanes. We would then have to create a new AD to apply to the DC-10 models. Therefore, more redundancy and confusion would be created rather than less. We have not changed the AD in this regard.

Conclusion

We have carefully reviewed the available data, including the comments that have been received, and determined that air safety and the public interest require adopting the AD with the change described previously. We have determined that this change will neither increase the economic burden on any operator nor increase the scope of the AD.

Costs of Compliance

There are about 409 airplanes of the affected design in the worldwide fleet. The following table provides the estimated costs for U.S. operators to comply with this AD.

Estimated Costs
Action | Work hours | Average labor rate per hour | Parts | Cost per airplane | Number of U.S.- registered airplanes | Fleet cost
Modification (required by AD 2004-05-20) | 9 | $80 | $4,886 to $7,920 | $5,606 to $8,640 | 322 | $1,805,132 to $2,782,080.
Inspection (required by AD 2004-05-20) | 1 | 80 | $0 | $80, per inspection cycle | 322 | $25,760, per inspection cycle.
Modification/rerouting (new action) | 2 to 18 | 80 | $5,380 to $5,872 | $5,540 to $7,312 | 128 | $709,120 to $935,936.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13515 (69 FR 11504, March 11, 2004) and by adding the following new airworthiness directive (AD):

2009-03-02 McDonnell Douglas: Amendment 39-15803. Docket No. FAA-2008-0735; Directorate Identifier 2008-NM-085-AD.

Effective Date

(a) This AD becomes effective March 31, 2009.

Affected ADs

(b) This AD supersedes AD 2004-05-20.

Applicability

(c) This AD applies to McDonnell Douglas Model DC-10-10, DC-10-10F, DC-10-15, DC-10-30, DC-10-30F (KC-10A and KDC-10), DC-10-40, DC-10-40F, MD-10-10F, MD-10-30F, MD-11, and MD-11F airplanes; certificated in any category; as identified in the applicable service bulletin listed in Table 1 of this AD.

Table 1—Airplanes Affected by This AD
McDonnell Douglas model— | Identified in— | Referenced in—
DC-10-10, DC-10-10F, DC-10-15, DC-10-30, DC-10-30F (KC-10A and KDC-10), DC-10-40, DC-10-40F, MD-10-10F, and MD-10-30F airplanes | Boeing Alert Service Bulletin DC10-29A144, Revision 2, dated August 1, 2003 | Paragraph (f) of this AD.
MD-11 and MD-11F airplanes | Boeing Alert Service Bulletin MD11-29A059, Revision 2, dated August 1, 2003 | Paragraph (g) of this AD.
DC-10-10, DC-10-10F, DC-10-15, DC-10-30, DC-10-30F (KC-10A and KDC-10), DC-10-40, and DC-10-40F airplanes | Boeing Alert Service Bulletin DC10-29A148, dated March 20, 2008 | Paragraph (h) of this AD.

Unsafe Condition

(d) This AD results from reports of failure of the electric motor for the auxiliary hydraulic pump. We are issuing this AD to prevent failure of the electric motors of the hydraulic pump and associated wiring, which could result in fire at the auxiliary hydraulic pump and consequent damage to the adjacent electrical equipment and/or structure.

Compliance

(e) You are responsible for having the actions required by this AD performed within the compliance times specified, unless the actions have already been done.

Restatement of the Requirements of AD 2004-05-20

Modification/Prior or Concurrent Actions

(f) For Model DC-10-10, DC-10-10F, DC-10-15, DC-10-30, DC-10-30F (KC-10A and KDC-10), DC-10-40, DC-10-40F, MD-10-10F, and MD-10-30F airplanes listed in Boeing Alert Service Bulletin DC10-29A144, Revision 2, dated August 1, 2003: Within 18 months after April 15, 2004 (the effective date of AD 2004-05-20), do the actions specified in paragraphs (f)(1) and (f)(2) of this AD.

(1) Modify the installation wiring of the electric motor operated auxiliary hydraulic pumps in the right wheel well area of the main landing gear (MLG) (including removing existing clamps, ground wires, if required, and sleeving from the wire assemblies; inspecting for cracks and chafing, installing new support bracket, clips, and bracket assemblies, as applicable; installing sleeving; re-routing and attaching wire assemblies using new clamps and attachments; installing an additional routing clip on the lower bracket of the fuel motor control valve, if applicable; and doing a voltage check and a functional test), per the Accomplishment Instructions of Boeing Alert Service Bulletin DC10-29A144, Revision 2, dated August 1, 2003.

(2) Prior to or concurrently with accomplishment of paragraph (f)(1) or (h) of this AD: Do the actions specified in Boeing Alert Service Bulletin DC10-29A142, Revision 02, dated April 17, 2003; or Revision 3, dated October 15, 2005; (including inspecting the numbers 1 and 2 electric motors of the auxiliary hydraulic pumps for electrical resistance, continuity, mechanical rotation, and associated airplane wiring resistance/voltage; and replacing the auxiliary hydraulic pump with a serviceable pump and repairing the wiring if necessary), per the Accomplishment Instructions of Boeing Alert Service Bulletin DC10-29A142, Revision 02, dated April 17, 2003; or Revision 3, dated October 15, 2005. Repeat the actions after that at intervals not to exceed 2,500 flight hours. After the effective date of this AD, Boeing Alert Service Bulletin DC10-29A142, Revision 3, dated October 15, 2005, must be used.

(g) For Model MD-11 and MD-11F airplanes listed in Boeing Alert Service Bulletin MD11-29A059, Revision 2, dated August 1, 2003: Within 18 months after April 15, 2004, do the actions specified in paragraphs (g)(1) and (g)(2) of this AD.

(1) Modify the installation wiring of the electric motor auxiliary hydraulic pumps in the wheel well area of the right MLG (including removing and retaining wire assembly clamps, if applicable; retaining the existing ground wire assemblies; retaining or replacing all other wire assemblies for both connectors; installing spiral wrap and sleeving; wrapping upper ends of individual wires with tape; installing new support bracket assemblies, if applicable; re-routing and attaching wire assemblies using new clamps and attachments, if applicable; and doing a voltage check and a functional test), per the Accomplishment Instructions of Boeing Alert Service Bulletin MD11-29A059, Revision 2, dated August 1, 2003.

(2) Prior to or concurrently with accomplishment of paragraph (g)(1) of this AD: Do the actions specified in Boeing Alert Service Bulletin MD11-29A057, Revision 02, dated April 17, 2003 (including inspecting the numbers 1 and 2 electric motors of the auxiliary hydraulic pumps for electrical resistance, continuity, mechanical rotation, and associated airplane wiring resistance/voltage; and replacing the auxiliary hydraulic pump with a serviceable pump and repairing the wiring if necessary), per the Accomplishment Instructions of Boeing Alert Service Bulletin MD11-29A057, Revision 02, dated April 17, 2003. Repeat the actions after that at intervals not to exceed 2,500 flight hours.

New Requirements of This AD

Modification and Rerouting

(h) For Model DC-10-10, DC-10-10F, DC-10-15, DC-10-30, DC-10-30F (KC-10A and KDC-10), DC-10-40, and DC-10-40F airplanes identified in Boeing Alert Service Bulletin DC10-29A148, dated March 20, 2008: Within 24 months after the effective date of this AD, modify and reroute, as applicable, components of the wiring of the electric motor for the auxiliary hydraulic pump located in the right wheel well, and do all applicable investigative and corrective actions before further flight. Do all actions in accordance with the Accomplishment Instructions of Boeing Alert Service Bulletin DC10-29A148, dated March 20, 2008. The concurrent requirements, including the repetitive inspections, of paragraph (f)(2) of this AD continue to apply to these airplanes.

Alternative Methods of Compliance (AMOCs)

(i)(1) The Manager, Los Angeles Aircraft Certification Office (ACO), FAA, ATTN: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2004-05-20 are approved as AMOCs for the requirements of paragraphs (g)(1) and (g)(2) of this AD.

Material Incorporated by Reference

(j) You must use the service information listed in Table 2 of this AD to perform the actions that are required by this AD, as applicable, unless the AD specifies otherwise.

Table 2—All Material Incorporated by Reference
Service Bulletin | Revision level | Date
Boeing Alert Service Bulletin DC10-29A142 | Revision 02 | April 17, 2003.
Boeing Alert Service Bulletin DC10-29A142 | Revision 3 | October 15, 2005.
Boeing Alert Service Bulletin DC10-29A144 | Revision 2 | August 1, 2003.
Boeing Alert Service Bulletin DC10-29A148 | Original | March 20, 2008.
Boeing Alert Service Bulletin MD11-29A057 | Revision 02 | April 17, 2003.
Boeing Alert Service Bulletin MD11-29A059 including Appendix | Revision 2 | August 1, 2003.

(1) The Director of the Federal Register approved the incorporation by reference of Boeing Alert Service Bulletin DC10-29A142, Revision 3, dated October 15, 2005; and Boeing Alert Service Bulletin DC10-29A148, dated March 20, 2008; in accordance with 5 U.S.C. 552(a) and 1 CFR part 51.

(2) On April 15, 2004 (69 FR 11504, March 11, 2004), the Director of the Federal Register approved the incorporation by reference of the service information listed in Table 3 of this AD.

Table 3—Material Previously Incorporated by Reference
Service Bulletin | Revision level | Date
Boeing Alert Service Bulletin DC10-29A142 | Revision 02 | April 17, 2003.
Boeing Alert Service Bulletin DC10-29A144 | Revision 2 | August 1, 2003.
Boeing Alert Service Bulletin MD11-29A057 | Revision 02 | April 17, 2003.
Boeing Alert Service Bulletin MD11-29A059 including Appendix | Revision 2 | August 1, 2003.

(3) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

(4) You may review copies of the service information that is incorporated by reference at the FAA, Transport Airplane Directorate, 1601 Lind Avenue, SW., Renton, Washington. For information on the availability of this material at the FAA, call 425-227-1221 or 425-227-1152.

(5) You may also review copies of the service information at the National Archives and Records Administration (NARA). For information on the availability of this material at NARA, call 202-741-6030, or go to: http://www.archives.gov/federal_register/code_of_federal_regulations/ibr_locations.html.

Issued in Renton, Washington, on January 21, 2009.
Ali Bahrami,
Manager, Transport Airplane Directorate, Aircraft Certification Service.

[FR Doc. E9-3123 Filed 2-23-09; 8:45 am]

BILLING CODE 4910-13-P